DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: National Centers for Environmental Information Send2NCEI Web Application.

OMB Control Number: 0648-0024.

Form Number(s): NOAA 24-13.

Type of Request: Regular (extension of a currently approved information collection).

Number of Respondents: 300.

Average Hours per Response: 1 hour.

Burden Hours: 300.

Needs and Uses: This request is for extension of a currently approved information collection.

When creating a Request to Archive oceanographic data or information at the United States (U.S.) National Centers for Environmental Information (NCEI), well-organized and complete metadata describing those data are needed for long term understanding and use of those data. The Send2NCEI web application provides a web-based form for easily collecting required and optional descriptive metadata to describe oceanographic data in a way that supports Executive Order 12906 and structures those metadata to conform to the internationally used ISO 19115 Geospatial Metadata suite of standards. Descriptive metadata informs the suitability of data for use by future data users and should provide critical context about how data were collected, what techniques and measurements were made, and data quality characterizations. Information about the data provider or other individuals is only used by NCEI to contact the data provider with questions about submitted data, about the status of the data in the archival process, and to provide appropriate scientific recognition and attribution for submitted data. Send2NCEI will be used by earth, ocean, and atmospheric scientists and their data managers.

Affected Public: Not for profit institutions; state, local or tribal governments; business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 23, 2018.
Sarah Brabson,
NOAA PRA Clearance Officer.

[FR Doc. 2018-04096 Filed 2-27-18; 8:45 am]

BILLING CODE 3510-HR-P